DEPARTMENT OF DEFENSE

Office of the Secretary

Federal Advisory Committee; Defense Audit Advisory Committee (DAAC)

AGENCY: Under Secretary of Defense (Comptroller), DoD.

ACTION: Notification of meeting.

SUMMARY: Under the provisions of the Federal Advisory Committee Act of 1972 (5 U.S.C., Appendix, as amended), the Government in the Sunshine Act of 1976 (5 U.S.C. 552b, as amended), and 41 CFR 102-3.150, the Department of Defense announces that the Defense Audit Advisory Committee will meet on May 17, 2010. Subject to the availability of space, the meeting is open to the public.

DATES: The meeting will be held on Monday, May 17, 2010, from 3 p.m. to 5 p.m.

ADDRESSES: The meeting will be held at the Pentagon, Room 3E754, Washington, DC (escort required, see below).

FOR FURTHER INFORMATION CONTACT: The Committee's Designated Federal Officer (DFO) is Sandra Gregory, Office of the Under Secretary of Defense (Comptroller) (OUSD(C)), 1100 Defense Pentagon, Room 3C689, Washington, DC 20301-1100, sandra.gregory@osd.mil, (703) 614-3310.

For meeting information please contact Arianna Smith, OUSD(C), 1100 Defense Pentagon, Room 3C689, Washington, DC 20301-1100, arianna.smith.ctr@osd.mil, (703) 614-4819.

SUPPLEMENTARY INFORMATION:

Purpose

The mission of the DAAC is to provide the Secretary of Defense, through the Under Secretary of Defense (Comptroller)/Chief Financial Officer, independent advice and recommendations on DoD financial management to include financial reporting processes, systems of internal controls, audit processes, and processes for monitoring compliance with relevant laws and regulations.

Agenda

Below is the agenda for the May 17, 2010 meeting:

3 p.m. Welcome and update

3:20 Review of last meeting minutes and Opening Remarks

3:45 Open Discussion on Themes and Messages of the May 2010 FIAR Plan Status Report

4:10 Alternative approaches for Balance sheet property valuation

4:35 Internal Audit Role

4:55 Closing Remarks

Accessibility to the Meeting

Pursuant to 5 U.S.C. 552b and 41 CFR 102-3.140 through 102-3.165, and the availability of space, this meeting is open to the public. Seating is on a first-come basis. Members of the public who wish to attend the meeting must contact Ms. Smith at the number listed in this notice no later than noon on Tuesday, May 11, 2010, to arrange a Pentagon escort. Public attendees are required to arrive at the Pentagon Metro Entrance by 2 p.m. and complete security screening by 2:15 p.m. Security screening requires two forms of identification: (1) A government-issued photo I.D., and (2) any type of secondary I.D. which verifies the individual's name (i.e. debit card, credit card, work badge, Social Security card).

Special Accommodations

Individuals requiring special accommodation to access the public meeting should contact Ms. Smith at least five business days prior to the meeting to ensure appropriate arrangements can be made.

Procedures for Providing Written Comments

Pursuant to 41 CFR 102-3.105(j) and 102-3.140, and section 10(a)(3) of the Federal Advisory Committee Act of 1972, the public or interested organizations may submit written comments to the Committee about its mission and topics pertaining to this public session.

Written comments are accepted until the date of the meeting; however, written comments should be received by the Designated Federal Officer at least five business days prior to the meeting date so that the comments may be made available to the Committee members for their consideration prior to the meeting. Written comments should be submitted to the Designated Federal Officer (see FOR FURTHER INFORMATION CONTACT). E-mail submissions should be in one of the following formats (Adobe Acrobat, WordPerfect, or Word format).

Please note: Since the committee operates under the provisions of the Federal Advisory Committee Act, as amended, all written comments will be treated as public documents and will be made available for public inspection, up to and including being posted on the OUSD(C) Web site.

Request for Waiver

Due to unforeseen difficulties the Designated Federal Officer was unable to process the Federal Register notice for the May 17, 2010, meeting of the Defense Audit Advisory Committee (DAAC), as required by 41 CFR 102-3.150(a). Accordingly, the Committee Management Officer for the Department of Defense, pursuant to 41 CFR 102-3.150(b), waives the 15-calendar day notification requirement.

Dated: May 4, 2010.
Mitchell S. Bryman,
Alternate OSD Federal Register Liaison Officer, Department of Defense.

[FR Doc. 2010-10844 Filed 5-6-10; 8:45 am]

BILLING CODE 5001-06-P